DEPARTMENT OF THE INTERIOR

Fish and Wildlife Service

[FWS-R8-ES-2012-N276;FXES11130800000-123-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before January 3, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-78622A

Applicant: William J. Mautz, Hilo, Hawaii

The applicant requests a permit to take (capture, handle, mark, salvage, and release) the island night lizard (Xantusia riversiana) in conjunction with surveys, population monitoring, and research activities throughout the range of the species in California for the purpose of enhancing the species' survival.

Permit No. TE-78621A

Applicant: Danielle L. Temple, Three Rivers, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-053336

Applicant: John E. Vollmar, Berkley, California

The applicant requests an amendment to a permit to take (to restore and enhance habitat) for the California tiger salamander (Santa Barbara County DPS) (Ambystoma californiense) in conjunction with habitat enhancement and restoration activities in Santa Barbara County, California, for the purpose of enhancing the species' survival.

Permit No. TE-776608

Applicant: Monk and Associates, Inc., Walnut Creek, California

The applicant requests an amendment to a permit to take (survey, capture, handle, and release) the giant kangaroo rat (Dipodomys ingens) in conjunction with survey activities throughout the range of the species in California for the purpose of enhancing the species' survival.

Permit No. TE-798003

Applicant: North State Resources, Redding, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey) the southwestern willow flycatcher (Empidonax traillii extimus); and take (capture, handle, and release) the California tiger salamander (Sonoma County Distinct Population Segment) (Ambystoma californiense) and California tiger salamander (Santa Barbara County DPS) (Ambystoma californiense) in conjunction with survey activities throughout the range of each species in California and Nevada for the purpose of enhancing the species' survival.

Permit No. TE-88331A

Applicant: Ryan S. Winkleman, Rancho Santa Margarita, California

The applicant requests a permit to take (survey, capture, handle, and release) the arroyo toad (=arroyo southwestern) (Anaxyrus californicus (Bufo microscaphus c.)) in conjunction with survey and annual monitoring activities in Los Angeles, San Bernardino, and Riverside Counties, California, for the purpose of enhancing the species' survival.

Permit No. TE-089980

Applicant: Jeff M. Hagar, Richmond, California

The applicant requests a permit renewal to take (survey, capture, handle, and release) the tidewater goby (Eucyclogobius newberryi) in conjunction with surveys and scientific studies in San Diego, Orange, Los Angeles, Ventura, Santa Barbara, San Luis Obispo, Monterey, Santa Cruz, San Mateo, San Francisco, Marin, and Sonoma Counties, California, for the purpose of enhancing the species' survival.

Permit No. TE-092469

Applicant: Ingrid I. Eich, Fullerton, California

The applicant requests a permit renewal to take (capture, collect, and collect vouchers) the Riverside fairy shrimp (Streptocephalus woottoni) and San Diego fairy shrimp (Branchinecta sandiegonensis), and requests an amendment to take (capture, collect, and collect vouchers) the Conservancy fairy shrimp (Branchinecta conservatio), longhorn fairy shrimp (Branchinecta longiantenna), and vernal pool tadpole shrimp (Lepidurus packardi), in conjunction with survey activities throughout the range of each species in California for the purpose of enhancing the species' survival.

Permit No. TE-795935

Applicant: Gibson & Skordal, LLC, Sacramento, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-053379

Applicant: Christine L. Tischer, Orange, California

The applicant requests a permit renewal to take (survey by pursuit) the Quino checkerspot butterfly (Euphydryas editha quino) and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-213314

Applicant: Morro Coast Audubon Society, Morro Bay, California

The applicant requests an amendment to a permit to take (locate, capture, handle, measure, release, and relocate) the Morro shoulderband snail (Helminthoglypta walkeriana) in conjunction with surveys, monitoring, and habitat restoration activities throughout the range of the species in California for the purpose of enhancing the species' survival.

Permit No. TE-180579

Applicant: Dwayne N. Oberhoff, Los Osos, California

The applicant requests a permit renewal to take (locate, capture, handle, and release) the Morro shoulderband snail (Helminthoglypta walkeriana) in conjunction with survey activities throughout the range of the species in California for the purpose of enhancing the species' survival.

Permit No. TE-89964A

Applicant: Debra S. Barringer, Ventura, California

The applicant requests a permit to take (survey, locate, and monitor nests) the California least tern (Sternula antillarum browni) in conjunction with survey and population monitoring activities in Ventura, Orange, San Diego, San Luis Obispo, and Santa Barbara Counties, California, for the purpose of enhancing the species' survival.

Permit No. TE-90000A

Applicant: Ryan M. Brown, Chico, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-195306

Applicant: Sierra View Landscape Incorporated, Rocklin, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-89998A

Applicant: Matthew L. Amalong, Fountain Valley, California

The applicant requests a permit to take (survey, locate and monitor nests) the California least tern (Sternula antillarum browni) in conjunction with survey and population monitoring activities throughout the range of the species in California for the purpose of enhancing the species' survival.

Permit No. TE-89496A

Applicant: Nathan W. Mudry, Fullerton, California

The applicant requests a permit to take (survey, locate and monitor nests) the California least tern (Sternula antillarum browni) in conjunction with survey and population monitoring activities throughout the range of the species in California for the purpose of enhancing the species' survival.

Permit No. TE-227263

Applicant: Emilie A. Strauss, San Rafael, California

The applicant requests an amendment to a permit to take (harass by survey) the California clapper rail (Rallus longirostris obsoletus) in conjunction with survey activities throughout the range of the species in California for the purpose of enhancing the species' survival.

Permit No. TE-90002A

Applicant: Todd J. Wong, Elk Grove, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-179036

Applicant: Cullen A. Wilkerson, Richmond, California

The applicant requests a permit renewal to take (harass by survey, capture, handle, mark, and release) the San Francisco garter snake (Thamnophis sirtalis tetrataenia) in conjunction with survey and research activities throughout the range of the species in California, and take (harass by survey, capture, handle, and release) the California tiger salamander (central DPS) (Ambystoma californiense) and the California red-legged frog (Rana draytonii) (R. aurora d.) in conjunction with survey and research activities in Contra Costa, San Mateo, Alameda, San Joaquin, Solano, Yolo, Napa, Butte, and Santa Clara Counties, California, for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Mary Grim.
Acting Regional Director, Pacific Southwest Region, Sacramento, California.

[FR Doc. 2012-29178 Filed 12-3-12; 8:45 am]

BILLING CODE 4310-55-P